DEPARTMENT OF COMMERCE

National Oceanic and Atmospheric Administration

50 CFR Part 622

[I.D. 071202A]

RIN 0648-AP41

Fisheries of the Caribbean, Gulf of Mexico, and South Atlantic; Amendment 5 to the Fishery Management Plan for the Shrimp Fishery off the Southern Atlantic States

AGENCY: National Marine Fisheries Service (NMFS), National Oceanic and Atmospheric Administration (NOAA), Commerce.

ACTION: Notice of availability; request for comments.

SUMMARY: NMFS announces that the South Atlantic Fishery Management Council (Council) has submitted Amendment 5 to the Fishery Management Plan for the Shrimp Fishery off the Southern Atlantic States (FMP). This amendment would establish a limited access program for the rock shrimp fishery in the exclusive economic zone (EEZ) off Georgia and off the east coast of Florida (limited access area), establish a minimum mesh size for a rock shrimp trawl net in the limited access area, require the use of an approved vessel monitoring system (VMS) by vessels participating in the limited access program, and require an operator of a vessel in the rock shrimp fishery in the EEZ off the southern Atlantic states (North Carolina through the east coast of Florida) to have an operator permit. The intended effects are to minimize additional increases in harvesting capacity in the rock shrimp fishery; reduce the harvest of small, unmarketable rock shrimp; enhance compliance with fishery management regulations; improve protection of essential fish habitat, including an area that contains the last 20 acres of intact Oculina coral remaining in the world; and ensure the long-term economic viability of the rock shrimp fishery.

DATES: Written comments must be received on or before September 23, 2002.

ADDRESSES: Written comments on the Comprehensive SFA Amendment should be sent to Peter Eldridge, Southeast Regional Office, NMFS, 9721 Executive Center Drive N., St. Petersburg, FL 33702. Comments may also be sent via fax to 727-570-5583. Comments will not be accepted if submitted via e-mail or the Internet.

Requests for copies of Amendment 5, which includes a final supplemental environmental impact statement, initial regulatory flexibility analysis, regulatory impact review, and a social impact assessment/fishery impact statement, should be sent to the South Atlantic Fishery Management Council, Southpark Building, Suite 306, 1 Southpark Circle, Charleston, South Carolina 29407-4699, Email: safmc@safmc.net.

FOR FURTHER INFORMATION CONTACT: Peter Eldridge, telephone: 727-570-5305; fax: 727-570-5583; e-mail: Peter.Eldridge@noaa.gov.

SUPPLEMENTARY INFORMATION: The shrimp fishery off the Southern Atlantic States in the EEZ is managed under the FMP approved by NMFS, and implemented under the authority of the Magnuson-Stevens Fishery Conservation and Management Act by regulations at 50 CFR part 622.

In its preliminary qualitative analysis of Federally managed fisheries conducted in March 2001, NMFS classified the rock shrimp fishery off the southern Atlantic states as one of the fisheries where there are indications of over-capacity. With over-capacity and open access to the fishery, any gains in the health of the stocks would likely attract new entrants and an increase in harvesting capacity. Accordingly, Amendment 5 proposes a limited access program for the fishery off Georgia and the east coast of Florida. The intended effects are to minimize additional increases in harvesting capacity in the rock shrimp fishery; reduce the bycatch of small, unmarketable rock shrimp; enhance compliance with fishery management regulations; improve protection of essential fish habitat, including an area that contains the last 20 acres of intact Oculina coral remaining in the world; and ensure the long-term economic viability of the rock shrimp industry.

The current requirement for a Federal vessel permit for the rock shrimp fishery remains in effect. However, in addition, to participate in the fishery off Georgia and the east coast of Florida, a limited access endorsement for South Atlantic rock shrimp would be required. Initially, NMFS would issue a limited access endorsement to the owner of a vessel that had a valid Federal permit for South Atlantic rock shrimp on or before December 31, 2000, and that had landings of at least 15,000 lb of rock shrimp from the South Atlantic EEZ during one of the calendar years 1996 through 2000. A vessel that had a Federal permit for South Atlantic rock shrimp would be determined solely from NMFS' permit records. Claimed landings would be verified from landings data in state or Federal database systems; the landings must have been submitted on or before January 31, 2001. For the purpose of initial eligibility for a limited access endorsement, the owner of a vessel that had a permit for rock shrimp during the qualifying period would retain the rock shrimp landings record of that vessel during the time of his/her ownership, unless a sale of the vessel included a written agreement that credit for qualifying landings was transferred to the new owner.

An owner issued a limited access endorsement could request that the permit be transferred to another vessel or to another vessel owner by submitting an application for transfer to the Regional Administrator (RA). An owner must report any costs associated with such transfer on the application for transfer. A transfer of a limited access endorsement to a new owner would include the transfer of the vessel's entire catch history of South Atlantic rock shrimp to the new owner.

The RA would not reissue a limited access endorsement for South Atlantic rock shrimp if the permit is revoked or if a required application for renewal of the permit is not received within 1 year after the permit's expiration date. Additionally, a limited access endorsement for rock shrimp that is inactive for a period of 4 consecutive calendar years would not be renewed.

Historically, the cod end mesh size commonly used in the rock shrimp fishery was 1 7/8 to 2 inches (4.76 to 5.08 cm) stretched mesh. Some fishermen are now using smaller mesh or are putting a bag liner inside the cod end. This results in the catch of juvenile rock shrimp, some of which are unmarketable and are discarded dead. This Amendment would establish a minimum mesh size for the cod end of 1 7/8 inches (4.76 cm) and prohibit the use of smaller-mesh bag liners. This would allow escapement of juvenile rock shrimp. There is virtually no information available on either the extent of escapement of juvenile rock shrimp or on the quantity of other bycatch; thus, NMFS has initiated 100 days of observer coverage on this fishery to obtain such information. This information should be available for inspection in about a year.

This Amendment would require the use of a NMFS-approved vessel monitoring system (VMS) by each vessel that has been issued a limited access endorsement for South Atlantic rock shrimp when such vessel is on a trip off the southern Atlantic states (North Carolina through the east coast of Florida). The VMS would consist of a mobile transmitting unit placed on each vessel and an associated communication service provider that supplies the link between the unit and NMFS. The VMS would advise NMFS when and where a vessel was fishing or had been fishing. Thus, it would provide effort data and would significantly aid in enforcement of areas closed to trawling, particularly the Oculina Bank habitat area of particular concern. There is a critical need to increase the level of surveillance in this area because it contains the last 20 acres of intact Oculina coral remaining in the world.

NMFS would publish in the Federal Register a list of approved VMS mobile transmitting units and associated communications service providers that meet the minimum standards for the rock shrimp fishery. A vessel that has been issued a limited access endorsement for the South Atlantic rock shrimp fishery would be required to have an operating VMS commencing 270 days after the final rule implementing this amendment is published.

To enhance enforcement of fishery regulations, the Amendment proposes to require operator permits in the South Atlantic rock shrimp fishery. “Operator” is defined as the master or other individual aboard and in charge of a vessel. Each vessel that has a Federal permit for the fishery would be required to have on board at least one person who has an operator permit when the vessel is at sea or offloading. In addition to penalties that currently exist for violations of the regulations, an operator permit could be sanctioned. For example, an operator whose permit is suspended, revoked, or modified pursuant to subpart D of 15 CFR part 904 would not be allowed aboard any vessel subject to Federal fishing regulations in any capacity, if so sanctioned by NOAA, while the vessel is at sea or offloading. To enhance enforceability of this measure, a vessel's owner and operator would be responsible for ensuring that a person with such suspended, revoked, or modified operator permit is not aboard his/her vessel. A list of operators whose permits are revoked, suspended, or modified would be readily available from the RA. In general, an operator permit would be valid for a period of 3 years, expiring at the end of the individual's birth month.

Comments received by September 23, 2002, whether specifically directed to those management measures in Amendment 5 or to the proposed rule that NMFS plans to publish that would implement Amendment 5, will be considered by NMFS in its decision to approve, disapprove, or partially approve the proposed measures. Comments received after that date will not be considered by NMFS in this decision. All comments received by NMFS on Amendment 5 or the proposed rule during their respective comment periods will be addressed in the preamble of the final rule.

Authority: Authority: 16 U.S.C. 1801 et seq.

Dated: July 18, 2002.
Virginia M. Fay,
Acting Director, Office of Sustainable Fisheries, National Marine Fisheries Service.

[FR Doc. 02-18857 Filed 7-24-02; 8:45 am]

BILLING CODE 3510-22-S